DEPARTMENT OF AGRICULTURE

Commodity Credit Corporation

7 CFR Part 1435

Sugar Program Definitions

CFR Correction

In Title 7 of the Code of Federal Regulations, Parts 1200 to 1599, revised as of January 1, 2009, on page 617, in § 1435.2, following the definition of “ability to market”, reinstate the definition of “allocation” to read as follows:

§ 1435.2 Definitions.

* * * * *

Allocation means the division of the beet sugar allotment among the sugar beet processors in the United States and the division of each State's cane sugar allotment among the State's sugarcane processors.

* * * * *

[FR Doc. E9-30019 Filed 12-15-09; 8:45 am]

BILLING CODE 1505-01-D